DEPARTMENT OF ENERGY

Federal Energy Regulatory Commission

[Docket No. CP17-463-000]

Notice of Schedule for Environmental Review of the Okeechobee Lateral Pipeline Project Florida Southeast Connection, LLC

On August 22, 2017, Florida Southeast Connection, LLC (FSC) filed an application to construct and operate certain natural gas pipeline facilities. The Federal Energy Regulatory Commission (Commission) is considering this application in Docket No. CP17-463-000 for a Certificate of Public Convenience and Necessity pursuant to Section 7(c) of the Natural Gas Act (NGA). The proposed project is known as the Okeechobee Lateral Pipeline Project (Project), and would connect FSC's mainline system with the Florida Power & Light Company's (FPL) Okeechobee Clean Energy Center (OCEC). The Project would be capable of transporting up to 400 million cubic feet per day of natural gas to the OCEC.

This Notice of Schedule for Environmental Review indicates the anticipated date for the Commission staff's issuance of an environmental assessment (EA) for this proposal. The issuance of a Notice of Schedule for Environmental Review will serve to notify federal and state agencies of the timing for the completion of all necessary reviews, and the subsequent need to complete all federal authorizations within 90 days of the date of issuance of the Commission staff's EA.

Schedule for Environmental Review

Issuance of EA—March 16, 2018

90-day Federal Authorization Decision Deadline—June 14, 2018

If a schedule change becomes necessary, additional notice will be provided so that the relevant agencies are kept informed of the Project's progress.

Project Description

FSC requests authorization to construct and operate approximately 5.2 miles of 20-inch-diameter natural gas transmission pipeline and associated facilities including an inspection tool launcher and a receiver and a meter station in Okeechobee County, Florida. As described above, this lateral pipeline would connect FSC's mainline system with FPL's OCEC. FSC anticipates construction would require four to five months.

Background

On October 24, 2017, the Commission issued a Notice of Intent to Prepare an Environmental Assessment for the Proposed Okeechobee Lateral Pipeline Project and Request for Comments on Environmental Issues (NOI). The NOI was sent to affected landowners; federal, state, and local government agencies; elected officials; environmental and public interest groups; Native American tribes; other interested parties; and local libraries and newspapers. In response to the NOI, the Commission received comments from the Treasure Coast Democratic Environmental Caucus, Seminole Tribe of Florida, Sierra Club, and the Economic Council of Okeechobee County. The primary issues raised by the commentors concern air quality, cumulative impacts, potential future projects and connected actions, cultural resources, purpose and need, alternatives, and greenhouse gas and upstream emissions.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the eLibrary link, select General Search from the eLibrary menu, enter the selected date range and Docket Number excluding the last three digits (i.e., CP17-463), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: February 16, 2018.
Nathaniel J. Davis, Sr.,
Deputy Secretary.

[FR Doc. 2018-03715 Filed 2-22-18; 8:45 am]

BILLING CODE 6717-01-P